DEPARTMENT OF ENERGY

Federal Energy Regulatory Commission

Combined Notice of Filings #1

September 15, 2005.

Take notice that the Commission received the following electric rate filings:

Docket Numbers: ER02-257-005.

Applicants: Northern Iowa Windpower, LLC.

Description: Northern Iowa Windpower, LLC submits revised tariff sheets to its FERC Electric Tariff, First Revised Volume 1, Original Sheet Nos. 1-5.

Filed Date: 09/06/2005.

Accession Number: 20050912-0035.

Comment Date: 5 pm Eastern Time on Tuesday, September 27, 2005.

Docket Numbers: ER04-663-001.

Applicants: Entergy Services, Inc.

Description: Entergy Services, Inc., on behalf of Entergy Arkansas, Inc., submits its Refund Report in compliance with FERC's 11/2/04 Letter Order.

Filed Date: 09/06/2005.

Accession Number: 20050912-0039.

Comment Date: 5 pm Eastern Time on Tuesday, September 27, 2005.

Docket Numbers: ER05-1076-001, ER97-2846-006.

Applicants: Carolina Power & Light Company; Florida Power. Corporation aka Progress Energy Florida, Inc.

Description: Carolina Power & Light Co. aka Progress Energy Carolinas, Inc. submits its response to portions of the August 5, 2005 Letter that pertains to the market-based rate tariff filed. On September 6, 2005 a revision to market-based rate filed under accession No. 20050909-0032.

Filed Date: 09/06/2005.

Accession Number: 20050909-0032.

Comment Date: 5 pm Eastern Time on Tuesday, September 27, 2005.

Docket Numbers: ER05-1082-001.

Applicants: Carolina Power & Light Company.

Description: Carolina Power & Light Co. aka Progress Energy Carolinas Inc., submits a revised Cost-Based Wholesale Power Sales Tariff in response to the questions raised in the 8/5/05 letter re its previously filed cost-based tariff re Carolina Power & Light Co.

Filed Date: 09/06/2005.

Accession Number: 20050909-0033.

Comment Date: 5 pm Eastern Time on Tuesday, September 27, 2005.

Docket Numbers: ER05-1085-001; ER04-458-008.

Applicants: Midwest Independent Transmission System Operator, Inc.

Description: Midwest Independent Transmission System Operator, Inc. submits proposed revisions to their Open Access Transmission and Energy Markets Tariff.

Filed Date: 09/06/2005.

Accession Number: 20050912-0030.

Comment Date: 5 pm Eastern Time on Tuesday, September 27, 2005.

Docket Numbers: ER05-1105-002.

Applicants: LP and T Energy, LLC.

Description: LP and T Energy, LLC submits a second amended filing of Application for Order Accepting Market Based Rate Tariff; Original Sheet 4.

Filed Date: 09/06/2005.

Accession Number: 20050909-0029.

Comment Date: 5 pm Eastern Time on Tuesday, September 27, 2005.

Docket Numbers: ER05-1238-002.

Applicants: MidAmerican Energy Company.

Description: MidAmerican Energy Co. submits a revised copy of the Interconnection Agreement designated as First Revised Service Agreement 244 which was inadvertently omitted.

Filed Date: 09/02/2005.

Accession Number: 20050912-0033.

Comment Date: 5 pm Eastern Time on Friday, September 23, 2005.

Docket Numbers: ER05-1426-000.

Applicants: Avista Corporation.

Description: Avista Corp requests that FERC disclaim jurisdiction over the contracts between Public Utility District #2 of Grant County, Washington and Avista. September 8, 2005 errata to this filing included under accession No. 20050908-5064.

Filed Date: 09/02/2005.

Accession Number: 20050907-0060.

Comment Date: 5 pm Eastern Time on Friday, September 23, 2005.

Docket Numbers: ER05-1442-000.

Applicants: PJM Interconnection, L.L.C.

Description: PJM Interconnection, LLC submits an executed interconnection service agreement with Criterion Power Partners, LLC and Allegheny Power.

Filed Date: 09/06/2005.

Accession Number: 20050908-0119.

Comment Date: 5 pm Eastern Time on Tuesday, September 27, 2005.

Docket Numbers: ER05-1443-000.

Applicants: Southern Company Services, Inc.

Description: Southern Company Services, Inc. as agent for Alabama Power Co., submits the First Revised Service Agreement 370 under FERC Electric Tariff, Fourth Revised Volume No. 5.

Filed Date: 09/06/2005.

Accession Number: 20050908-0117.

Comment Date: 5 pm Eastern Time on Tuesday, September 27, 2005.

Docket Numbers: ER05-1444-000.

Applicants: Midwest Independent Transmission System Operator, Inc.

Description: Midwest Independent Transmission System Operator Inc. submits an unexecuted Large Generator Interconnection Agreement among Matton Wind Farm LLC, the Midwest ISO and Central Illinois Public Service Co. September 13, 2005 errata to this filing included under accession No. 20050915-0112.

Filed Date: 09/06/2005.

Accession Number: 20050908-0118.

Comment Date: 5 pm Eastern Time on Tuesday, September 27, 2005.

Docket Numbers: ER05-1447-000.

Applicants: Salmon River Electric Cooperative, Inc.

Description: Salmon River Electric Coop, Inc. advises that due to amendments to section 201(f) of the Federal Power Act, it is no longer a public utility.

Filed Date: 09/06/2005.

Accession Number: 20050909-0036.

Comment Date: 5 pm Eastern Time on Tuesday, September 27, 2005.

Docket Numbers: ER05-1448-000.

Applicants: Wells Rural Electric Company.

Description: Wells Rural Electric Co. advises that due to amendments to section 201(f) of the Federal Power Act, it is no longer a public utility.

Filed Date: 09/06/2005.

Accession Number: 20050909-0035.

Comment Date: 5 pm Eastern Time on Tuesday, September 27, 2005.

Any person desiring to intervene or to protest in any of the above proceedings must file in accordance with Rules 211 and 214 of the Commission's Rules of Practice and Procedure (18 CFR 385.211 and §385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-5139 Filed 9-20-05; 8:45 am]

BILLING CODE 6717-01-P